DEPARTMENT OF HOMELAND SECURITY

Federal Emergency Management Agency

[Docket ID FEMA-2014-0002; Internal Agency Docket No. FEMA-B-1404]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before July 24, 2014.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1404, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

I. Non-watershed-based studies:

Community | Community Map Repository Address
Santa Barbara, California, and Incorporated Areas
Maps Available for Inspection Online at: http://www.fema.gov/preliminaryfloodhazarddata
City of Santa Barbara | City Administrator, 630 Garden Street, Santa Barbara, CA 93101.
Unincorporated Areas of Santa Barbara County | Santa Barbara County Public Works Department, Water Resources Division, 123 East Anapamu Street, Santa Barbara, CA 93101.
Lake County, Illinois, and Incorporated Areas
Maps Available for Inspection Online at: http://www.fema.gov/preliminaryfloodhazarddata
Unincorporated Areas of Lake County | Central Permit Facility, 500 West Winchester Road, Unit 1, Libertyville, IL 60048.
Village of Grayslake | Village Hall, 10 South Seymour Avenue, Grayslake, IL 60030.
Village of Hainesville | Village Hall, 100 North Hainesville Road, Hainesville, IL 60030.
Village of Hawthorn Woods | Village Hall, 2 Lagoon Drive, Hawthorn Woods, IL 60047.
Village of Mundelein | Village Hall, 440 East Hawley Street, Mundelein, IL 60060.
Village of Round Lake | Village Hall, 442 North Cedar Lake Road, Round Lake, IL 60073.
Village of Round Lake Park | Village Hall, 203 East Lake Shore Drive, Round Lake Park, IL 60073.
Village of Volo | Village Hall, 500 South Fish Lake Road, Volo, IL 60073.
Village of Wauconda | Village Hall, 101 North Main Street, Wauconda, IL 60084.
Lake County, Indiana, and Incorporated Areas
Maps Available for Inspection Online at: http://www.fema.gov/preliminaryfloodhazarddata
Town of Griffith | Town Hall, 111 North Broad Street, Griffith, IN 46319.
Town of Highland | Town Hall, 3333 Ridge Road, Highland, IN 46322.
Town of Munster | Town Hall, 1005 Ridge Road, Munster, IN 46321.
Town of Schererville | Town Hall, 10 East Joliet Street, Schererville, IN 46375.
Unincorporated Areas of Lake County | County Building, 2293 North Main Street, Crown Point, IN 46307.
Buchanan County, Iowa, and Incorporated Areas
Maps Available for Inspection Online at: http://www.fema.gov/preliminaryfloodhazarddata
City of Independence | City Hall, 331 1st Street East, Independence, IA 50644.
Unincorporated Areas of Buchanan County | Buchanan County Zoning Office, 210 5th Avenue Northeast, Suite I, Independence, IA 50644.
Washington County, Kansas, and Incorporated Areas
Maps Available for Inspection Online at: http://www.fema.gov/preliminaryfloodhazarddata
City of Barnes | City Hall, 202 Railroad Avenue, Barnes, KS 66933.
City of Clifton | City Hall, 104 East Parallel Street, Clifton, KS 66937.
City of Greenleaf | City Hall, 507 5th Street, Grenleaf, KS 66943.
City of Haddam | City Office, 412 Main Street, Haddam, KS 66944.
City of Hanover | City Hall, 200 North Railroad Street, Hanover, KS 66945.
City of Hollenberg | City Hall, 427 Fuller Street, Hollenberg, KS 66946.
City of Linn | City Hall, 104 5th Street, Linn, KS 66953.
City of Mahaska | City Hall, 109 North Main Street, Mahaska, KS 66955.
City of Morrowville | City Hall, 111 South Main Street, Morrowville, KS 66958.
City of Palmer | City Hall, 217 North Illinois Street, Palmer, KS 66962.
City of Vining | City Hall, 109 South Scribner Street, Vining, KS 66937.
City of Washington | City Hall, 301 C Street, Washington, KS 66968.
Unincorporated Areas of Washington County | Emergency Management Office, 214 C Street, Washington, KS 66968.
Middlesex County, Massachusetts (All Jurisdictions)
Maps Available for Inspection Online at: http://www.fema.gov/preliminaryfloodhazarddata
Town of Bedford | Town Hall, 10 Mudge Way, Bedford, MA 01730.
Town of Billerica | Town Hall, 365 Boston Road, Billerica, MA 01821.
Town of Burlington | Town Hall, 29 Center Street, Burlington, MA 01803.
Town of Lexington | Town Offices, 1625 Massachusetts Avenue, Lexington, MA 02420.
Town of Tewksbury | Town Hall, 1009 Main Street, Tewksbury, MA 01876.
Town of Wilmington | Town Hall, 121 Glen Road, Wilmington, MA 01887.
Sweet Grass County, Montana, and Incorporated Areas
Maps Available for Inspection Online at: http://www.fema.gov/preliminaryfloodhazarddata
City of Big Timber | Sweet Grass County Annex, Sweet Grass County Planning Office, 515 Hooper Street, Big Timber, MT 59011.
Unincorporated Areas of Sweet Grass County | Sweet Grass County Annex, Sweet Grass County Planning Office, 515 Hooper Street, Big Timber, MT 59011.
Greene County, New York (All Jurisdictions)
Maps Available for Inspection Online at: http://www.fema.gov/preliminaryfloodhazarddata
Town of Hunter | Hunter Town Hall, 5748 State Route 23A, Tannersville, NY 12485.
Town of Jewett | Municipal Building, 3547 County Route 23C, Jewett, NY 12444.
Town of Lexington | Municipal Building, 3542 State Route 42, Lexington, NY 12542.
Village of Hunter | Village Hall, 7955 Main Street, Hunter, NY 12442.
Village of Tannersville | Village Hall, 1 Park Lane, Tannersville, NY 12485.
Sullivan County, New York (All Jurisdictions)
Maps Available for Inspection Online at: http://www.fema.gov/preliminaryfloodhazarddata
Town of Neversink | Neversick Town Hall, 273 Main Street, Grahamsville, NY 12740.
Ulster County, New York (All Jurisdictions)
Maps Available for Inspection Online at: http://www.fema.gov/preliminaryfloodhazarddata
Town of Denning | Denning Town Clerk's Office, 1567 Denning Road, Claryville, NY 12725.
Town of Hardenburgh | Hardenburgh Town Hall, 51 Rider Hollow Road, Arkville, NY 12406.
Town of Hurley | Town Hall, 10 Wamsley Place, Hurley, NY 12443.
Town of Marbletown | Marbletown Town Hall, 3775 Main Street, Stone Ridge, NY 12484.
Town of Olive | Olive Town Hall, 45 Watson Hollow Road, West Shokan, NY 12494.
Town of Shandaken | Town Hall, 7209 Route 28, Shandaken, NY 12480.
Town of Wawarsing | Wawarsing Town Assessor's Office and Building Department, 108 Canal Street, Ellenville, NY 12428.
Town of Woodstock | Town Clerk's Office, 45 Comeau Drive, Woodstock, NY 12498.
Pittsburg County, Oklahoma, and Incorporated Areas
Maps Available for Inspection Online at: http://www.fema.gov/preliminaryfloodhazarddata
Town of Kiowa | City Hall, 813 South Harrison Street, Kiowa, OK 74553.
Unincorporated Areas of Pittsburg County | Pittsburg County Courthouse, 115 East Carl Albert Parkway, McAlester, OK 74501.
Davidson County, Tennessee, and Incorporated Areas
Maps Available for Inspection Online at: http://www.fema.gov/preliminaryfloodhazarddata
City of Belle Meade | City Hall, 4705 Harding Road, Nashville, TN 37205.
City of Berry Hill.
City of Forest Hills | City Hall, 6300 Hillsboro Road, Nashville, TN 37215.
City of Goodlettsville | City Hall, 105 South Main Street, Goodlettsville, TN 37072.
City of Nashville & Davidson County | Metro Nashville Public Works Department, 720 South Fifth Street, Nashville, TN 37206.
City of Oak Hill | City Hall, 5548 Franklin Pike, Suite 101, Nashville, TN 37220.
City of Portsmouth, Virginia (Independent City)
Maps Available for Inspection Online at: http://www.fema.gov/preliminaryfloodhazarddata
City of Portsmouth | Department of Planning, City Hall Building, 801 Crawford Street, 4th Floor, Portsmouth, VA 23704.
Pacific County, Washington, and Incorporated Areas
Maps Available for Inspection Online at: http://www.fema.gov/preliminaryfloodhazarddata
City of Ilwaco | City Hall, 120 1st Avenue North, Ilwaco, WA 98624.
City of Long Beach | City Hall, 115 Bolstad Avenue West, Long Beach, WA 98631.
City of Raymond | City Hall, 230 2nd Street, Raymond, WA 98577.
City of South Bend | City Hall, 1102 West 1st Street, South Bend, WA 98586.
Shoalwater Bay Indian Tribe | Tribal Center, 2373 Old Tokeland Road, Tokeland, WA 98590.
Unincorporated Areas of Pacific County | Emergency Management Office, 300 Memorial Drive, South Bend, WA 98586.

II. Watershed-based studies:

Community | Community Map Repository Address
Upper Grand Watershed
Maps Available for Inspection Online at: http://www.fema.gov/preliminaryfloodhazarddata
Caldwell County, Missouri, and Incorporated Areas
City of Braymer | City Hall, 108 East 2nd Street, Braymer, MO 64624.
City of Kingston | City Hall, 30 West Main Street, Kingston, MO 64650.
Unincorporated Areas of Caldwell County | County Courthouse, 49 East Main Street, Kingston, MO 64650.
Daviess County, Missouri, and Incorporated Areas
City of Gallatin | City Hall, 112 East Grand Street, Gallatin, MO 64650.
Town of Lock Springs | Lock Springs Town Hall, 200 Lake Street, Jameson, MO 64648.
Unincorporated Areas of Daviess County | County Courthouse, 102 North Main Street, Gallatin, MO 64640.
Village of Jameson | Village Hall, 201 Main Street, Jameson, MO 64647.
Gentry County, Missouri, and Incorporated Areas
City of Albany | City Hall, 106 East Clay Street, Albany, MO 64402.
City of Stanberry | City Hall, 130 West 1st Street, Stanberry, MO 64489.
Unincorporated Areas of Gentry County | County Courthouse, 200 West Clay Street, Albany, MO 64402.
Village of Darlington | Village Hall, 209 Mill Street, Darlington, MO 64438.
Village of Gentry | Gentry County Courthouse, 200 West Clay Street, Albany, MO 64402.

(Catalog of Federal Domestic Assistance No. 97.022, “Flood Insurance.”)

Dated: April 14, 2014.
Roy E. Wright,
Deputy Associate Administrator for Mitigation, Department of Homeland Security, Federal Emergency Management Agency.

[FR Doc. 2014-09450 Filed 4-24-14; 8:45 am]

BILLING CODE 9110-12-P